NATIONAL SCIENCE FOUNDATION

Proposal Review Panel for Physics; Notice of Meeting

In accordance with the Federal Advisory Committee Act (Pub. L. 92-463, as amended), the National Science Foundation announces the following meeting.

Name: University of Nebraska Site Visit in Physics (1208).

Date and Time: Monday, February 1, 2010; 8 a.m.-6 p.m.; Tuesday, February 2, 2010: 8 a.m.-3 p.m.

Place: University of Nebraska, Lincoln, Nebraska.

Type of Meeting: Partially Closed.

Contact Person: Dr. James Reidy, Program Director for Elementary Particle Physics, National Science Foundation, 4201 Wilson Blvd., Arlington, VA 22230. Telephone: (703) 292-7392.

Purpose of Meeting: To provide an evaluation concerning the proposal submitted to the National Science Foundation.

Agenda

Monday. February 1, 2010

Closed 8-9

Executive Session.

Open 9-3

Open Discussions and/or presentations.

Closed 3-3:30

Executive Session.

Open 3:30-6

Open Discussions and/or presentations.

Tuesday, February 2, 2010

Closed 8-9

Executive Session.

Open 9-11:30

Open Discussions and/or presentations.

Closed 11:30-3:30

Executive Session & Close out with Lab Leaders.

Reason For Closing: The proposal contains proprietary or confidential material including technical information; financial data, such as salaries; and personal information concerning individuals associated with the proposals. These matters are exempt under 5 U.S.C. 552b (c) and (6) of the Government in the Sunshine Act.

Dated: January 14, 2010.
Susanne Bolton,
Committee Management Officer.

[FR Doc. 2010-967 Filed 1-20-10; 8:45 am]

BILLING CODE 7555-01-P